DEPARTMENT OF STATE

[Public Notice 9845]

Notice of a Public Meeting and Request for Comments on Funding Initiatives To End Modern Slavery

SUMMARY: The Department of State is issuing this notice to announce a public meeting and request for comment on the most effective approaches for awarding funds for the purpose of reducing the prevalence of modern slavery globally. The award of these funds will respond to the requirements in section 7060(f) of the Department of State, Foreign Operations, and Related Programs Appropriations Act, 2016 (Div. K, Pub. L. 114-113) and section 1298 of the National Defense Authorization Act for Fiscal Year 2017 (S. 2943). Interested parties may offer oral and/or written comments at a public meeting to be held on January 25, 2017.

DATES AND LOCATION: A public meeting will be conducted on January 25, 2017, at 10:00 a.m. EST on the 10th floor in Room 10000 of the Department of State Annex located at 1800 G Street NW., Washington DC, 20520.

Pre-Registration: The public is asked to pre-register by January 18, due to security and seating limitations. To pre-register, please send an email to Adam Guarneri of the State Department at TIPOutreach@state.gov. The pre-registration request should include the first and last name of the attendee(s), and, if applicable, company or organization name. Registration check-in will begin at 9:00 a.m. eastern time and the meeting will start at 10:00 a.m. and conclude by 12:00 p.m. Attendees must be prepared to present a form of government-issued photo identification.

Oral Public Comments: Parties wishing to make formal oral presentations at the public meeting must contact Adam Guarneri by email at TIPOutreach@state.gov no later than January 18, 2017, to be placed on the public speaker list. Time allocations for oral presentations will be limited to five minutes. Note: Requests made after the deadline for formal oral presentations will be granted as time permits and assigned based on the order the requests are received. All formal oral public comments should also be submitted in writing to TIPOutreach@state.gov by February 1, 2017.

Written Comments/Statements: In lieu of, or in addition to, participating in the public meeting, interested parties may submit written comments to TIPOutreach@state.gov by February 1, 2017.

Meeting Accommodations: The public meeting is physically accessible to people with disabilities. Request for sign language interpretation or other auxiliary aids should be directed to Adam Guarneri at TIPOutreach@state.gov by January 18, 2017.

FOR FURTHER INFORMATION CONTACT: Adam Guarneri, Office to Monitor and Combat Trafficking in Persons, U.S. Department of State, at TIPOutreach@state.gov for clarification of content, public meeting information, or submission of comment.

SUPPLEMENTARY INFORMATION: Section 7060(f) of the Department of State, Foreign Operations, and Related Programs Appropriations Act, 2016 (Div. K, Pub. L. 114-13) appropriated $25 million in funds to “to be awarded on an open and competitive basis, to reduce the prevalence of modern slavery globally.” The National Defense Authorization Act (NDAA) for Fiscal Year 2017 (S. 2943) authorized the Department to “to provide support for transformational programs and projects that seek to achieve a measurable and substantial reduction of the prevalence of modern slavery in targeted populations within partner countries (or jurisdictions thereof).”

The State Department seeks public comment on the most effective approaches for awarding funds to reduce the prevalence of modern slavery. The input will be considered in the solicitation and selection of proposals for award of these funds and in the management of these funds in the future.

The Department especially welcomes public comment on the following issues:

1. Focus of program. What areas of program funding would have the greatest impact in reducing the prevalence of modern slavery globally?

2. Assistance Coordination. What steps could the Department take to ensure this funding complements existing efforts to combat human trafficking globally?

3. What other factors/issues should the Department consider in the development and management of this award/solicitation?

Dated: January 4, 2017.
Susan Coppedge,
Ambassador-at-Large to Monitor and Combat Trafficking in Persons, U.S. Department of State.

[FR Doc. 2017-00274 Filed 1-9-17; 8:45 am]

BILLING CODE 4710-17-P